DEPARTMENT OF COMMERCE

Foreign-Trade Zones Board

[B-40-2020]

Foreign-Trade Zone (FTZ) 83—Huntsville, Alabama; Notification of Proposed Production Activity; Haier US Appliance Solutions, Inc. (Household Refrigerators); Decatur, Alabama

Haier US Appliance Solutions, Inc. (Haier) submitted a notification of proposed production activity to the FTZ Board for its facility in Decatur, Alabama. The notification conforming to the requirements of the regulations of the FTZ Board (15 CFR 400.22) was received on June 18, 2020.

Haier (previously approved as General Electric Company) already has authority to produce household refrigerators within Subzone 83D. The current request would add foreign status materials/components to the scope of authority. Pursuant to 15 CFR 400.14(b), additional FTZ authority would be limited to the specific foreign-status materials/components described in the submitted notification (as described below) and subsequently authorized by the FTZ Board.

Production under FTZ procedures could exempt Haier from customs duty payments on the foreign-status materials/components used in export production. On its domestic sales, for the foreign-status materials/components noted below, Haier would be able to choose the duty rates during customs entry procedures that apply to household refrigerators (duty-free). Haier would be able to avoid duty on foreign-status components which become scrap/waste. Customs duties also could possibly be deferred or reduced on foreign-status production equipment.

The materials/components sourced from abroad include: Cyclopentane; stainless steel blanks; iron and steel refrigerator handle mounts; iron and steel screws; rivets for axle wheels; steel pins; iron and steel retainer clips for compressors; aluminum hot stamping foil; aluminum logos/name plates; steel pin hinges; aluminum wire forms; rubber evaporator fan grommets; steel nutstrip hinges; plastic control knobs; plastic door stops; icemaker receptacle covers; refrigerator bifurcated dryers; refrigerator dryers for sealed systems; capacitors; overload positive temperature coefficient resistor combos; light bulbs; defrost heaters with harness; and, timers (duty rate ranges from duty free to 6.2%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is August 10, 2020.

A copy of the notification will be available for public inspection in the “Reading Room” section of the Board's website, which is accessible via www.trade.gov/ftz.

For further information, contact Diane Finver at Diane.Finver@trade.gov or (202) 482-1367.

Dated: June 23, 2020.
Andrew McGilvray,
Executive Secretary.

[FR Doc. 2020-14006 Filed 6-29-20; 8:45 am]

BILLING CODE 3510-DS-P